DEPARTMENT OF LABOR

Employment and Training Administration

Agency Information Collection Activities; Comment Request; DOL-Only Performance Accountability, Information, and Reporting

ACTION: Notice.

SUMMARY: The Department of Labor's (DOL) Employment and Training Administration (ETA) is soliciting comments concerning a proposed revision for the authority to conduct the information collection request (ICR) titled, “DOL-only Performance Accountability, Information, and Reporting.” This comment request is part of continuing Departmental efforts to reduce paperwork and respondent burden in accordance with the Paperwork Reduction Act of 1995 (PRA).

DATES: Consideration will be given to all written comments received by August 19, 2024.

ADDRESSES: A copy of this ICR with applicable supporting documentation, including a description of the likely respondents, proposed frequency of response, and estimated total burden, may be obtained free by contacting Kellen Grode by telephone at (202) 693-3534 (this is not a toll-free number), or by email at grode.kellen.m@dol.gov. For persons with a hearing or speech disability who need assistance to use the telephone system, please dial 711 to access telecommunications relay services.

Submit written comments about, or requests for a copy of, this ICR by mail or courier to the U.S. Department of Labor, Employment and Training Administration, Office of Policy Development and Research, 200 Constitution Ave. NW, Room N-5641, Washington, DC 20210; by email: grode.kellen.m@dol.gov.

FOR FURTHER INFORMATION CONTACT: Kellen Grode by telephone at (202) 693-3534, (this is not a toll-free number) or by email at grode.kellen.m@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

As a part of this revision request, ETA has made changes to the Participant Individual Record Layout (ETA-9172), (Program) Performance Report (ETA-9173) that include: (1) adding new program-specific versions of the ETA-9173 Quarterly Performance Reports (QPRs)—INAP Youth, and NFJP Housing, and 508 compliant versions for each template. (2) adding data elements needed by program offices, (new elements, and checks/unchecks); and (3) revising element names, definitions/instructions, and code fields to enhance the clarity of the collection. DOL is also proposing updates in this collection to adhere to the new requirements in OMB's Statistical Policy Directive No. 15 on Race and Ethnicity. Until the Department of Education is able to update its corresponding ICRs, the Joint ICR (OMB Control No. 1205-0526) will continue to use the same categories for Race and Ethnicity as previously approved. During the transition period, DOL will combine the Race categories for “White” and “Middle Eastern or North African” into a single “White” category in the joint ICR for the WIOA Statewide Performance Report (ETA-9169). Similarly, DOL will continue to calculate “More than one Race” according to the Joint ICR for the WIOA Statewide Performance Report (ETA-9169), while using “Multiracial and/or Multiethnic” in the DOL-only Quarterly Performance Reports (ETA-9173).

These revisions do not add burden to the collection. The added templates accommodate data collection that has previously been collected using different approved templates associated with this collection.

Section 116 of WIOA (29 U.S.C. 3141) authorizes this information collection. The Department of Labor's (DOL)'s Employment and Training Administration (ETA) developed the (Program) Performance Report (ETA-9173) and the Pay-for-Performance Report (ETA-9174) to facilitate State performance reporting. In order to collect the participant level data that will be aggregated and displayed in the (Program) Performance Report (ETA-9173) quarterly and the Pay-for-Performance Report (ETA-9174) annual reports, States will use a standardized individual record file for program participants, called the DOL Participant Individual Record Layout (PIRL, ETA-9172). The PIRL provides a standardized set of data elements, definitions, and reporting instructions that will be used to describe the characteristics, activities, and outcomes of WIOA and DOL partner program participants. States and grantees will be required to collect participant information that corresponds with the data elements and descriptions delineated within the PIRL. Once collected, this information will then be aggregated according to the conditions outlined in the specifications found within the Program Performance Report spreadsheet. This document details the common data elements and technical specifications necessary for calculation of reporting elements under all the DOL programs listed in the paragraph below. Once aggregated, the outcomes of the PIRL data will be submitted by the States and grantees to ETA and then displayed according to the framework within the (Program) Performance Report. Each program mentioned in this supporting statement will generate a program specific report that mirrors the construct of the (Program) Performance Report. DOL requires States and grantees to certify and submit the (Program) Performance Report to ETA on a quarterly basis.

This ICR is the product of a joint effort among the DOL offices that administer the following programs: WIOA Adult, WIOA Dislocated Worker, WIOA Youth, National Dislocated Worker Grants, Dislocated Worker Projects authorized under WIOA sec. 169(c), Wagner-Peyser Employment Service, National Farmworker Jobs Program, Job Corps, YouthBuild, Indian and Native American Program, as well as non-WIOA covered programs, including Trade Adjustment Assistance (TAA), REO, H-1B discretionary grants, Senior Community Service Employment Program (SCSEP), Apprenticeship grants, and the Jobs for Veterans' State Grants Programs. While H-1B grants, TAA, SCSEP, Apprenticeship grants and the REO programs are not authorized under WIOA, these programs utilize the data element definitions and reporting templates in this ICR.

The accuracy, reliability, and comparability of program reports submitted by States and grantees using Federal funds are fundamental elements of good public administration and are necessary tools for maintaining and demonstrating system integrity. The use of a standard set of data elements, definitions, and specifications at all levels of the workforce system helps states to coordinate funding and leverage resources available to create a more efficient and effective system to improve the quality of the performance information that is received by DOL.

The set of primary indicators of performance represents the key results that ETA strives to achieve for their customers, and that ETA and Congress are interested in measuring. Using this set of primary indicators affords ETA the ability to describe, in a similar manner, the core purposes of the workforce system—through the program services received, how many people found jobs; what were their earnings; and what skill gains they achieved. They are an integral part of ETA's performance accountability system, and through the Workforce Performance Accountability, Information, and Reporting System, ETA will continue to collect from States and grantees the data on program activities, participants, and outcomes that are necessary for program management and to convey full and accurate information on the performance of workforce programs to policymakers and stakeholders.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention DOL Only 1205-0521.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: DOL-only Performance Accountability, Information, and Reporting System.

Forms: DOL Participant Individual Record Layout (PIRL, ETA-9172); (Program). Performance Report (ETA-9173); Pay-for Performance Report (ETA-9174).

OMB Control Number: 1205-0521.

Affected Public: State, Local, and Tribal Governments.

Estimated Number of Respondents: 22,687,331.

Frequency: Varies.

Total Estimated Annual Responses: 46,167,618.

Estimated Average Time per Response: Varies.

Estimated Total Annual Burden Hours: 11,735,522.

Total Estimated Annual Other Cost Burden: $9,491,287.

Authority: 44 U.S.C. 3506(c)(2)(A).

José Javier Rodríguez,
Assistant Secretary for Employment and Training, Labor.

[FR Doc. 2024-13436 Filed 6-18-24; 8:45 am]

BILLING CODE 4510-FN-P